NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Request for copies must be received in writing on or before June 3, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food and Nutrition Service (N1-462-02-1, 4 items, 4 temporary items). Records accumulated in connection with billings submitted to the agency by contractors hired to visit and report findings on stores that participate in the Food Stamp Program. Records include call orders and confirmation letters issued to prospective contractors, billing invoices, and deficiency reports submitted by contractors. Also included are electronic copies of documents created using electronic mail and word processing.

2. Department of the Air Force, Agency-wide (N1-AFU-02-5, 78 items, 78 temporary items). Electronic versions of temporary records relating to logistics and maintenance matters. Included are electronic copies of documents created using electronic mail and word processing as well as electronic records that supplement or replace paper records already approved for disposal. Records relate to such matters as the preparation of aircraft inventories and other accountability documents, the disposal of surplus aircraft, materiel deficiencies, maintenance activities at depots, equipment inspections, the operation of telephone and telecommunications equipment, and training.

3. Department of the Air Force, Agency-wide (N1-AFU-02-6, 87 items, 87 temporary items). Electronic versions of temporary records relating to accounting and finance. Included are electronic copies of documents created using electronic mail and word processing as well as electronic records that supplement or replace paper records already approved for disposal. Records relate to such matters as cost accounting, financial statements, contract financing, international accounting, and revolving funds.

4. Department of the Army, Agency-wide (N1-AU-02-3, 3 items, 2 temporary items). Records relating to the abatement of local area environmental pollution, including such files as inventories, source documentation, and electronic copies of documents created using electronic mail and word processing. Recordkeeping copies of agency-wide pollution abatement information, including documentation forwarded from local areas, is proposed for permanent retention. This schedule also authorizes the agency to apply the proposed disposition instructions to any recordkeeping medium.

5. Department of the Army, Agency-wide (N1-AU-02-9, 2 items, 2 temporary items). Records relating to educational and developmental intervention services. Included are referral documentation, evaluations, eligibility documentation, early intervention service coordination documents, transition plans, and electronic copies of documents created using electronic mail and word processing. This schedule also authorizes the agency to apply the proposed disposition instructions to any recordkeeping medium.

6. Department of the Army, Agency-wide (N1-AU-02-10, 2 items. 2 temporary items). Records relating to periodic alcohol and drug testing of personnel who handle chemical and nuclear weapons and materiel. Included are such records as urinalysis test results and electronic copies of documents created using electronic mail and word processing. This schedule also authorizes the agency to apply the proposed disposition instructions to any recordkeeping medium.

7. Department of the Army, Agency-wide (N1-AU-02-11, 2 items, 2 temporary items). Records relating to records disposition exceptions and freezes. Included are requests, approvals, and related information reflecting exceptions to record disposition standards. Also included are electronic copies of documents created using electronic mail and word processing. This schedule also authorizes the agency to apply the proposed disposition instructions to any recordkeeping medium.

8. Department of Justice, United States Marshals Service (N1-527-02-1, 3 items, 3 temporary items). Records relating to court and special security officers. Records include such documents as personal history statements, medical histories, background investigation records, and firearm qualifications. Also included are electronic copies of documents created using electronic mail and word processing.

9. Department of Labor, Employment Standards Administration (N1-448-01-2, 105 items, 90 temporary items). Records of the Office of Federal Contract Compliance Programs, including such record series as Deputy Assistant Secretary review records, invitations to high agency officials, drafts of publications, computer-generated hardcopy reports, customer and equal employment opportunity (EEO) surveys, correspondence concerning EEO awards, contract compliance logs, conciliation agreement files, contractor debarment and reinstatement files, compliance extension files, expert witness files, Joint Review Committee minutes and correspondence, an investigation case tracking system, records relating to external reviews and audits, and records of yearly task forces. Also included are electronic copies of documents created using electronic mail and word processing. Proposed for permanent retention are such records as recordkeeping copies of publications, records of EEO awards, and databases relating to compliance reviews, Federal procurement, complaint administration, and other matters along with the related system documentation.

10. Department of State, Bureau of Political and Military Affairs (N1-59-01-21, 48 items, 37 temporary items). Records of the Office Regional Security and Arms Transfers relating to clearing arms sales and the provision of services and training to foreign countries. Records include clearance requests, logs, security officer nominations, munitions case files, routine public inquiries, chronological files, daily activity reports, advisory group membership files, and administrative files. Also included are electronic copies of documents created using electronic mail and word processing. Proposed for permanent retention are recordkeeping copies of such records as program files, policy files, briefing books, special munitions sales case files, and memorandums of agreement with foreign nations regarding weapons technology development.

11. Department of the Treasury, Office of Enforcement (N1-56-02-2, 9 items, 9 temporary items). Paper and electronic versions of individual student files, class files, and student medical/health files accumulated by the Federal Law Enforcement Training Center. Also included are electronic copies of documents created using electronic mail and word processing.

12. Environmental Protection Agency, Office of Prevention, Pesticides, and Toxic Substances (N1-412-02-6, 2 items, 2 temporary items). Records relating to child-resistant packaging, including such files as requests for information, status reviews of products, copies of Federal Register Notices, policy notices, requests for exemptions from regulations, and reports. Also included are electronic copies of records created using electronic mail and word processing.

13. Tennessee Valley Authority, River System Operations and Environment, (N1-142-02-3, 19 items, 9 temporary items). Notes, feature separates, film, scribe sheets, printing negatives, and related material used in creating maps for publication. Also included are electronic copies of records created using electronic mail, word processing, and other office automation applications. Record sets of all printed maps and related indexes are proposed for permanent retention.

Dated: April 11, 2002.
Michael J. Kurtz,
Assistant Archivist for Record Services—Washington, DC.

[FR Doc. 02-9625 Filed 4-18-02; 8:45 am]

BILLING CODE 7515-01-P